DEPARTMENT OF TRANSPORTATION

Surface Transportation Board

[STB Finance Docket No. 34894]

Rail + Transload, Inc.—Acquisition and Operation Exemption—Rail Line of Tower Investments, LLC

Rail + Transload, Inc. (RTI), a noncarrier, has filed a verified notice of exemption ¹ under 49 CFR 1150.31 to acquire from Tower Investments, LLC (TIL), and to operate approximately 1,100 feet (0.208 miles) of railroad track that extends from a point of connection with the Waterloo Spur of Canadian Pacific Railway Company (CPR) to a terminus approximately 200 feet northeast of the plant site of Specialty Ingredients, LLC (SIL), at Watertown, Jefferson County, Wisconsin.²

¹ While initially filed on June 19, 2006, the notice has been corrected by filings on June 22, 2006, and June 26, 2006.

² RTI and SIL are commonly controlled by TIL. The track is currently private track owned by TIL and used by CPR to provide rail service to SIL. Because this acquisition is RTI's initial rail acquisition and operation, RTI filed this notice.

RTI certifies that its projected annual revenues as a result of this transaction will not result in the creation of a Class II or Class I rail carrier.

The transaction was scheduled to be consummated on or after July 3, 2006, the effective date of the exemption.

If the notice contains false or misleading information, the exemption is void ab initio. Petitions to revoke the exemption under 49 U.S.C. 10502(d) may be filed at any time. The filing of a petition to revoke will not automatically stay the transaction.

An original and 10 copies of all pleadings, referring to STB Finance Docket No. 34894, must be filed with the Surface Transportation Board, 1925 K Street, NW., Washington, DC 20423-0001. In addition, one copy of each pleading must be served on Thomas F. McFarland, Thomas F. McFarland, P.C., 208 South LaSalle Street, Suite 1890, Chicago, IL 60604-1112.

Board decisions and notices are available on our Web site at http://www.stb.dot.gov.

Decided: July 19, 2006.
By the Board, David M. Konschnik, Director, Office of Proceedings.
Vernon A. Williams,
Secretary.

[FR Doc. E6-11817 Filed 7-25-06; 8:45 am]

BILLING CODE 4915-01-P